ENVIRONMENTAL PROTECTION AGENCY

[FRL-7154-8]

Agency Information Collection Activities: Proposed Collection; Comment Request; Exclusions

AGENCY: Environmental Protection Agency (EPA).

ACTION: Notice.

SUMMARY: In compliance with the Paperwork Reduction Act (44 U.S.C. 3501 et seq.), this document announces that EPA is planning to consolidate and submit the following continuing Information Collection Requests (ICRs) to the Office of Management and Budget (OMB): Motor Vehicle Exclusion Determinations, EPA ICR Number 0012.11, OMB Control Number 2060-0124, expiration date 05/31/02; and Exclusion Determinations for New Non-Road Spark-ignited Engines at or Below 19 Kilowatts, New Compression-ignited Engines at or Above 37 Kilowatts, New Marine Engines, New On-road Heavy Duty Engines and Locomotive Engines, EPA ICR Number 1852.01, OMB Control Number 2060-0395, expiration date 05/31/02. EPA ICR No. 1852.01 is being consolidated into EPA ICR No. 0012.11. Before submitting the ICR to OMB for review and approval, EPA is soliciting comments on specific aspects of the proposed information collection as described below.

DATES: Comments must be submitted on or before May 7, 2002.

ADDRESSES: For a copy of the ICR, contact Chestine Payton at EPA by phone at (202) 564-9328, by e-mail at payton.chestine@epamail.epa.gov, or download off the Internet at http://www.epa.gov/icr and refer to EPA ICR No. 0012.11

FOR FURTHER INFORMATION CONTACT: Chestine Payton, Telephone (202) 564-9328. Facsimile 202-564-9328, E-mail payton.chestine@epamail.epa.gov.

SUPPLEMENTARY INFORMATION: Affected entities: Entities potentially affected by this action are businesses or other for-profit organizations, including manufacturers of vehicles and importers of racing vehicles.

Title: Motor Vehicle Exclusion Determinations, EPA ICR Number 0012.11, OMB Control Number 2060-0124, expiration date 05/31/02; and Exclusion Determinations for New Non-Road Spark-ignited Engines at or Below 19 Kilowatts, New Compression-ignited Engines at or Above 37 Kilowatts, New Marine Engines, New On-road Heavy Duty Engines and Locomotive Engines, EPA ICR Number 1852.01, and OMB Control Number 2060-0395, expiration date 05/31/02. This is a request for an extension of currently approved collections.

Abstract: The EPA Office Transportation and Air Quality's Certification and Compliance Division, determines whether a vehicle is excluded from requirements under the Clean Air Act (ACT) based on the criteria listed in 40 CFR 85.1701—Exclusions and Exemption of Motor Vehicles and Motor Vehicle Engines. A manufacturer may make an exclusion determination by itself; however, manufacturers and importers may routinely request EPA to make such a determination to ensure that their determination does not differ from EPA's. Only needed information such as engine type, horsepower rating, intended usage, etc., is requested to make an exclusion determination. A manufacturer who desires a determination by the EPA as to whether a particular type of vehicle is excluded from coverage under the ACT must submit vehicle specifications such as size, use, and top speed. This ensures that motor vehicles which may be legally operated or are capable of being legally operated on streets or highways will not be imported under a racing vehicle exclusion. Some types of engines are excluded from compliance with current regulations. EPA ICR No. 1852.10, OMB Control Number 2060-0395, is being consolidated into EPA ICR No. 0012.11, OMB Control Number 2060-0294. This consolidation will eliminate the need for similar ICRs with the same requirements.

Responses to this collection are voluntary. The information is collected by the Office of Air and Radiation, Office of Transportation and Air Quality, Certification and Compliance Division. Confidentiality to proprietary information is granted in accordance with the Freedom of Information Act, EPA regulations at 40 CFR part 2, and class determinations issued by EPA's Office of General Counsel. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and record keeping burden for this collection of information is estimated to average 1.5 hours per respondent. The proposed frequency of response is on occasion and the estimated number of likely respondents is 210 per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 4, 2002.
Robert Brenner,
Acting Assistant Administrator for Air and Radiation.

[FR Doc. 02-5605 Filed 3-7-02; 8:45 am]

BILLING CODE 6560-50-P